DEPARTMENT OF TRANSPORTATION

Federal Highway Administration

Environmental Impact Statement: Christian, Shelby, Fayette, Marion, Clinton, Jefferson and Washington Counties, Illinois

AGENCY: Federal Highway Administration (FHWA), DOT.

ACTION: Notice to rescind a Notice of Intent to prepare an Environmental Impact Statement.

SUMMARY: The FHWA is issuing this notice to advise the public that an environmental impact statement will not be prepared for the US 51 Project, a proposed transportation improvement project in Christian, Shelby, Fayette, Marion, Clinton, Jefferson and Washington Counties in Illinois.

FOR FURTHER INFORMATION CONTACT: Arlene K. Kocher, Division Administrator, Federal Highway Administration, 3250 Executive Park Drive, Springfield, Illinois 62703. Phone: (217) 492-4600.

Jeffrey P. Meyers, P.E., Region 4 Engineer, Illinois Department of Transportation, 400 West Wabash, Effingham, Illinois 62401, Phone: 217-342-8201.

SUPPLEMENTARY INFORMATION: The FHWA, in cooperation with the Illinois Department of Transportation (IDOT), issued a notice of intent to prepare an environmental impact statement (EIS) on November 26, 2007 (72 FR 67779). The project proposal was to address potential increases in traffic volumes, operational issues, and State economic initiatives of the existing 70-mile roadway facility south of Pana to east of Irvington, Illinois.

The FHWA is rescinding the notice of intent because IDOT has no plans to advance the project and no further activities will occur in its development.

Comments or questions concerning this notice should be directed to FHWA or the Illinois Department of Transportation at the addresses provided above.

Authority: 23 U.S.C. 315; 23 CFR 771.123; 49 CFR 1.48.

(Catalog of Federal Domestic Assistance Program Number 20.205, Highway Research, Planning and Construction. The regulations implementing Executive Order 12372 regarding intergovernmental consultation on Federal programs and activities apply to this program).

Dated: February 7, 2020.
Arlene K. Kocher,
Division Administrator, Federal Highway Administration, Springfield, Illinois.

[FR Doc. 2020-02920 Filed 2-12-20; 8:45 am]

BILLING CODE 4910-22-P